DEPARTMENT OF HEALTH AND HUMAN SERVICES

Centers for Disease Control and Prevention

[30Day-08-07AC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Formative Research to Develop the Routine HIV Testing for Emergency Medicine Physicians, Prevention Is Care (PIC), and Partner Services Social Marketing Campaigns—New—National Center for HIV/AIDS, Viral Hepatitis, STD, and TB Prevention (NCHHSTP), Coordinating Center for Infectious Diseases (CCID), Centers for Disease Control and Prevention (CDC).

Background and Brief Description

This project involves formative research towards the development of three CDC-sponsored social marketing campaigns: Social Marketing Campaign to Make HIV Testing a Routine Part of Medical Care for Emergency Medicine Physicians (Routine HIV Testing), Prevention Is Care (PIC), and Partner Services (Partner Services). The title has changed since publication of the 60-day Federal Register Notice (previous title “Formative Research to Develop Social Marketing Campaigns: Routine HIV Testing for Emergency Medicine Physicians, Prevention Is Care (PIC), and Partner Services”). The goals remain the same but the Gynecologists and Obstetricians have been replaced with emergency medicine physicians for the Routine HIV Testing Campaign; a new component (“partner services”) was added along with a paper and pencil survey; focus groups were eliminated and the number of individual interviews increased; overall the estimated annualized burden hours decreased. The goal of the Routine HIV Testing Campaign is to increase HIV testing rates among individuals who receive care through the emergency department and the objective of the campaign is to make HIV testing a routine part of care provided by emergency medicine physicians. PIC entails encouraging primary care physicians (PCP) and Infectious Disease Specialists who deliver care to patients living with HIV to screen their HIV patients for HIV transmission behaviors and deliver brief messages on the importance of protecting themselves and others by reducing their risky behaviors. The long-term objective of the PIC campaign is to establish PIC as the standard of care for persons living with HIV. The goal of the Partner Services component of the PIC social marketing campaign is to make HIV partner services a routine part of medical care. Partner services will greatly enhance the detection and early referral of individuals with HIV infection and will greatly reduce the number of new infections. The study entails conducting interviews to test creative materials with a sample of emergency medicine physicians for Routine HIV Testing and with PCP and Infectious Disease Specialists for PIC and Partner Services. Findings from this study will be used by CDC and its partners to inform current and future program activities.

Routine HIV Testing will screen 36 physicians a year, for eligibility. Of the 36 physicians screened annually, it is expected that 24 will participate in an interview annually.

PIC will screen 81 physicians annually for eligibility. Of the 81 physicians who are screened, it is expected that 54 will participate in an interview annually.

Partner Services will screen 87 physicians for eligibility each year. Of the 87 physicians who are screened, it is expected that 58 will participate in an interview annually.

There are no costs to the respondents other than their time. The total estimated annual burden hours are 194.

Estimated Annualized Burden Hours
Type of respondent | Form name | Number of respondents | Responses per respondent | Average burden per response (in hours)
Emergency Medicine Physicians | Routine HIV Testing Screener Routine HIV Testing Interview | 36 24 | 1 1 | 10/60 1
| Routine HIV Testing Paper & Pencil Survey | 24 | 1 | 10/60
Prevention Is Care | PIC Screener | 81 | 1 | 10/60
| PIC Interview | 54 | 1 | 1
| PIC Paper & Pencil Survey | 54 | 1 | 10/60
Partner Services | Partner Services Screener | 87 | 1 | 10/60
| Interview (Exploratory Research) | 18 | 1 | 1
| Interview (Concept Testing) | 20 | 1 | 1
| Interview (Materials Testing) | 20 | 1 | 1
| Partner Services Paper & Pencil Survey | 58 | 1 | 10/60

Dated: November 2, 2007.
Maryam I. Daneshvar,
Acting Reports Clearance Officer, Centers for Disease Control and Prevention.

[FR Doc. E7-21992 Filed 11-8-07; 8:45 am]

BILLING CODE 4163-18-P